DEPARTMENT OF LABOR

Employment and Training Administration

[TA-W-72,831]

Elite Enclosure Co., LLC, Fort Laramie, OH; Notice of Termination of Investigation

Pursuant to Section 223 of the Trade Act of 1974, as amended, an investigation was initiated in response to a petition filed on November 12, 2009 by a Company Official on behalf of workers of Elite Enclosure Co., LLC, Fort Laramie, Ohio.

The petitioner has requested that the petition be withdrawn. Consequently, the investigation has been terminated.

Signed at Washington, DC this 3rd day of February, 2009.
Elliott S. Kushner,
Certifying Officer, Division of Trade Adjustment Assistance.

[FR Doc. 2010-5360 Filed 3-11-10; 8:45 am]

BILLING CODE 4510-FN-P